NATIONAL FOUNDATION ON THE ARTS AND THE HUMANITIES

Meetings of Humanities Panel

AGENCY: The National Endowment for the Humanities.

ACTION: Notice; Correction.

SUMMARY: The National Endowment for the Humanities published a document in the Federal Register of April 21, 2004, concerning Humanities Panel meetings. The dates of the meetings are May 3, 2004 and May 10, 2004, and the room number of these meetings was incorrect.

FOR FURTHER INFORMATION CONTACT: Daniel Schneider at (202) 606-8322.

Correction

In the Federal Register of April 21, 2004, on page 21585, in the third column, correct the room numbers of the Humanities Panel meetings for May 3, 2004 and May 10, 2004 to read:

1. Date: May 3, 2004.

Time: 8:30 a.m. to 5 p.m.

Room: 415.

Program: This meeting will review applications for Humanities Projects in Media, submitted to the Division of Public Programs at the March 22, 2004 deadline.

2. Date: May 10, 2004.

Time: 8:30 a.m. to 5 p.m.

Room: 415.

Program: This meeting will review applications for Humanities Projects in Media, submitted to the Division of Public Programs at the March 22, 2004 deadline.

Dated: April 27, 2004.
Daniel Schneider,
Advisory Committee Management Officer.

[FR Doc. 04-9850 Filed 4-29-04; 8:45 am]

BILLING CODE 7536-01-P